COMMITTEE FOR PURCHASE FROM PEOPLE WHO ARE BLIND OR SEVERELY DISABLED

Procurement List Additions and Deletions

AGENCY: Committee for Purchase From People Who are Blind or Severely Disabled.

ACTION: Additions to and Deletions from the Procurement List.

SUMMARY: This action adds products and a service to the Procurement List that will be furnished by nonprofit agencies employing persons who are blind or have other severe disabilities, and deletes a product and a service from the Procurement List previously furnished by such agencies.

DATES: Effective Date: 8/18/2014.

ADDRESSES: Committee for Purchase From People Who Are Blind or Severely Disabled, 1401 S. Clark Street, Suite 10800, Arlington, Virginia 22202-4149.

FOR FURTHER INFORMATION CONTACT: Barry S. Lineback, Telephone: (703) 603-7740, Fax: (703) 603-0655, or email CMTEFedReg@AbilityOne.gov.

SUPPLEMENTARY INFORMATION:

Additions

On 5/16/2014 (79 FR 28490-28491) and 6/13/2014 (79 FR 33911-33912), the Committee for Purchase From People Who Are Blind or Severely Disabled published notices of proposed additions to the Procurement List.

After consideration of the material presented to it concerning capability of qualified nonprofit agencies to provide the products and service and impact of the additions on the current or most recent contractors, the Committee has determined that the products and service listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and service to the Government.

2. The action will result in authorizing small entities to furnish the products and service to the Government.

3. There are no known regulatory alternatives which would accomplish the objectives of the Javits-Wagner-O'Day Act (41 U.S.C. 8501-8506) in connection with the products and service proposed for addition to the Procurement List.

End of Certification

Accordingly, the following products and service are added to the Procurement List:

Products

Undershirt, FREE, Army, Unisex

NSN: 8415-01-588-0506—Desert Sand, Size XS

NSN: 8415-01-588-0740—Desert Sand, Size S

NSN: 8415-01-588-0746—Desert Sand, Size M

NSN: 8415-01-588-0772—Desert Sand, Size L

NSN: 8415-01-588-0774—Desert Sand, Size XL

NSN: 8415-01-588-0794—Desert Sand, Size XXL

NSN: 8415-01-576-9915—Foliage Green, Size XS

NSN: 8415-01-576-9930—Foliage Green, Size S

NSN: 8415-01-577-0407—Foliage Green, Size M

NSN: 8415-01-577-0408—Foliage Green, Size L

NSN: 8415-01-577-0409—Foliage Green, Size XL

NSN: 8415-01-577-0410—Foliage Green, Size XXL

NPA: Bestwork Industries for the Blind, Inc., Runnemede, NJ

Contracting Activity: Army Contracting Command—Aberdeen Proving Ground, Natick Contracting Division, Natick, MA

Coverage: C-List for 100% of the requirement of the Department of the Army, as aggregated by the Army Contracting Command—Aberdeen Proving Ground, Natick Contracting Division, Natick, MA.

Calcium, Lime, and Rust Remover

NSN: 6850-00-NIB-2165—12/28 oz. Bottles

NSN: 6850-00-NIB-2166—4/1 Gallon Bottles

NPA: The Lighthouse for the Blind, St. Louis, MO

Contracting Activity: Defense Logistics Agency Aviation, Richmond, VA

Coverage: A-List for the Total Government Requirement as aggregated by the Defense Logistics Agency Aviation, Richmond, VA.

Service:

Service Type/Location: Healthcare Housekeeping and Related Services, US Army Medical Command, Madigan Army Medical Center, Building 473 Cabrillo St, Suite A1A, Presidio of Monterey, CA.

NPA: HHI Services Inc., San Antonio, TX.

Contracting Activity: Dept of the Army, W40M USA MEDCOM HCAA, Fort Sam Houston, TX.

Deletions

On 6/6/2014 (79 FR 32716-32718) and 6/13/2014 (79 FR 33911-33912), the Committee for Purchase From People Who Are Blind or Severely Disabled published notices of proposed deletions from the Procurement List.

After consideration of the relevant matter presented, the Committee has determined that the product and service listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product and service to the Government.

3. There are no known regulatory alternatives which would accomplish the objectives of the Javits-Wagner-O'Day Act (41 U.S.C. 8501-8506) in connection with the product and service deleted from the Procurement List.

End of Certification

Accordingly, the following product and service are deleted from the Procurement List:

Product

Winter Blue Dress Uniform Shirt

NSN: PGC496—U.S.C.G, Unisex, Long Sleeve

NPA: Oswego Industries, Inc., Fulton, NY

Contracting Activity: HQ Contract Operations (CG-912), Washington, DC

Service

Service Type/Location: Linen Distribution, Veterans Affairs Medical Center, 1900 East Main Street, Danville, IL.

NPA: WorkSource Enterprises, NFP, Danville, IL

Contracting Activity: Department of Veterans Affairs, 251-Network Contract Office 11, Indianapolis, IN

Barry S. Lineback,
Director, Business Operations.

[FR Doc. 2014-16894 Filed 7-17-14; 8:45 am]

BILLING CODE 6353-01-P